DEPARTMENT OF ENERGY

Federal Energy Regulatory Commission

[Docket No. RP00-181-000]

MIGC, Inc.; Notice of Request for Waiver

February 18, 2000.

Take notice that on February 14, 2000 MIGC, Inc. (MIGC), tendered for filing a Motion for Waiver of Interstate Web Site requirement.

MIGC states that the purpose of the filing is to request a waiver of the requirement for an interactive web site implement by the Commission on Order Nos. 587-G and 587-I.

MIGC states that copies of its filing are being mailed to its jurisdictional customers and interested state commissions.

Any person desiring to be heard or to protest said filing should file a motion to intervene or a protest with the Federal Energy Regulatory Commission, 888 First Street, NE, Washington, DC 20426, in accordance with Sections 385.214 or 385.211 of the Commission's Rules and Regulations. All such motions or protests must be filed on or before February 25, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm. (call 202-208-2222 for assistance).

David P. Boergers,
Secretary.

[FR Doc. 00-4443 Filed 2-24-00; 8:45 am]

BILLING CODE 6717-01-M